DEPARTMENT OF COMMERCE

International Trade Administration

[A-351-825]

Stainless Steel Bar From Brazil: Final Results of Antidumping Duty Administrative Review; 2012-2013

AGENCY: Enforcement and Compliance, International Trade Administration, Department of Commerce.

SUMMARY: The Department of Commerce (the Department) is conducting an administrative review of the antidumping duty order on stainless steel bar (SSB) from Brazil. The period of review (POR) is February 1, 2012, through January 31, 2013. The review covers one producer/exporter of the subject merchandise, Villares Metals S.A. (Villares). We determine that subject merchandise has been sold at less than normal value (NV) during the POR.

DATES: Effective Date: August 13, 2014.

FOR FURTHER INFORMATION CONTACT: Sandra Dreisonstok or Minoo Hatten, AD/CVD Operations, Office I, Enforcement and Compliance, International Trade Administration, U.S. Department of Commerce, 14th Street and Constitution Avenue NW., Washington, DC 20230; telephone: (202) 482-0768, and (202) 482-1690, respectively.

SUPPLEMENTARY INFORMATION:

Background

On March 24, 2014, the Department published the Preliminary Results and invited interested parties to comment.¹ Carpenter Technology Corporation, Crucible Industries LLC, Universal Stainless & Alloy Products Inc., and Valbruna Slater Stainless, Inc. (collectively, the petitioners), and Villares filed case briefs on April 22, 2014 and April 23, 2014, respectively. The petitioners filed a rebuttal brief on April 28, 2014.

¹ See Stainless Steel Bar From Brazil: Preliminary Results of Antidumping Duty Administrative Review; 2012-2013, 79 FR 15948 (March 24, 2014) (Preliminary Results).

As explained in the memorandum from the Assistant Secretary for Enforcement and Compliance, the Department exercised its discretion to toll deadlines for the duration of the closure of the Federal Government from October 1, through October 16, 2013. Therefore, all deadlines in this segment of the proceeding have been extended by 16 days.² Pursuant to the Tolling Memo, the deadline for the final results of this review was revised with a due date of July 22, 2014. On July 15, 2014, we extended the deadline for the final results to August 12, 2014.³

² See Memorandum from Paul Piquado, Assistant Secretary for Enforcement and Compliance, “Deadlines Affected by the Shutdown of the Federal Government” (October 18, 2013) (Tolling Memo).

³ See memorandum from Sandra Dreisonstok, International Trade Compliance Analyst, to Christian Marsh, Deputy Assistant Secretary for Antidumping and Countervailing Duty Operations, “Stainless Steel Bar from Brazil: Extension of Deadline for Final Results of Antidumping Duty Administrative Review; 2012-2013” dated July 15, 2014.

Scope of the Order

The merchandise subject to the order is SSB. The SSB subject to the order is currently classifiable under subheadings 7222.10.00, 7222.11.00, 7222.19.00, 7222.20.00, 7222.30.00 of the Harmonized Tariff Schedule of the United States (HTSUS). The HTSUS subheadings are provided for convenience and customs purposes.⁴ The written description is dispositive.

⁴ A full description of the scope of the order is contained in the Memorandum from Christian Marsh, Deputy Assistant Secretary for Antidumping and Countervailing Duty Operations, to Paul Piquado, Assistant Secretary for Enforcement and Compliance, “Issues and Decision Memorandum for the Final Results of Antidumping Duty Administrative Review of Stainless Steel Bar from Brazil; 2012-2013” dated concurrently with this notice (Issues and Decision Memorandum), which is hereby adopted by this notice.

Analysis of Comments Received

All issues raised in the case briefs by parties to this proceeding are listed in the appendix to this notice. Parties' rebuttal comments and the Department's response to these issues are addressed in the Issues and Decision Memorandum. The Issues and Decision Memorandum is a public document and is on file electronically via Enforcement and Compliance's Antidumping and Countervailing Duty Centralized Electronic Service System (IA ACCESS). Access to IA ACCESS is available to registered users at http://iaaccess.trade.gov and is available to all parties in the Central Records Unit, room 7046 of the main Department of Commerce building. In addition, a complete version of the Issues and Decision Memorandum can be accessed directly on the Internet at http://enforcement.trade.gov. The signed and the electronic versions of the memorandum are identical in content.

Changes to the Preliminary Results

For these final results we changed the quantity variable referenced in the margin-calculation program and, consequently, the results of the differential pricing analysis changed for Villares from the Preliminary Results.⁵ Thus, we revised our comparison method to calculate Villares' final weighted-average dumping margin.

⁵ See Issues and Decision Memorandum dated concurrently with this notice at Comments 1 and 2 for further discussion.

Final Results of Review

As a result of this review, we determine that a weighted-average dumping margin of 0.64 percent exists for Villares for the period February 1, 2012, through January 31, 2013.

Disclosure

We intend to disclose the calculations performed to parties in this proceeding within five days of the date of publication of this notice in accordance with 19 CFR 351.224(b).

Assessment Rates

The Department shall determine, and U.S. Customs and Border Protection (CBP) shall assess, antidumping duties on all appropriate entries. Because the weighted-average dumping margin is above de minimis, we calculated importer-specific ad valorem duty assessment rates based on the ratio of the total amount of dumping calculated for the examined sales to the total entered value of those same sales for each importer in accordance with 19 CFR 351.212(b)(l). In accordance with 19 CFR 351.212(b), we will instruct CBP to assess the importer-specific rate uniformly, as appropriate, on all entries of subject merchandise made by the relevant importer during the POR.

The Department clarified its “automatic assessment” regulation on May 6, 2003. This clarification will apply to entries of subject merchandise during the POR produced by Villares for which it did not know its merchandise was destined for the United States. In such instances, we will instruct CBP to liquidate unreviewed entries at the all-others rate if there is no rate for the intermediate company(ies) involved in the transaction.⁶

⁶ See Antidumping and Countervailing Duty Proceedings: Assessment of Antidumping Duties, 68 FR 23954 (May 6, 2003).

We intend to issue instructions to CBP 15 days after publication of these final results of review.

Cash Deposit Requirements

The following deposit requirements will be effective upon publication of this notice of final results of administrative review for all shipments of SSB from Brazil entered, or withdrawn from warehouse, for consumption on or after the date of publication as provided by section 751(a)(2) of the Tariff Act of 1930, as amended (the Act): (1) The cash deposit rate for Villares will be the rate established in the final results of this administrative review; (2) for merchandise exported by manufacturers or exporters not covered in this review but covered in a prior segment of the proceeding, the cash deposit rate will continue to be the company-specific rate published for the most recent period; (3) if the exporter is not a firm covered in this review, a prior review, or the original investigation but the manufacturer is, the cash deposit rate will be the rate established for the most recent period for the manufacturer of the merchandise; (4) the cash deposit rate for all other manufacturers or exporters will continue to be 19.43 percent, the all-others rate established in the Notice of Final Determination of Sales at Less Than Fair Value: Stainless Steel Bar From Brazil, 59 FR 66914 (December 28, 1994). These cash deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

Notification to Interested Parties

This notice also serves as a reminder to parties subject to administrative protective order (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation which is subject to sanction.

These final results of review are issued and published in accordance with sections 751(a)(1) and 777(i)(1) of the Act and 19 CFR 351.221(b)(5).

Dated: August 6, 2014.
Paul Piquado,
Assistant Secretary for Enforcement and Compliance.

Appendix—List of Topics Discussed in the Issues and Decision Memorandum

I. Summary

II. List of Comments

Comment 1: Quantity Variable Referenced

Comment 2: Differential Pricing Analysis

III. Background

IV. Scope of the Order

V. Changes to the Preliminary Results

VI. Discussion of the Issues

VII. Recommendation

[FR Doc. 2014-19148 Filed 8-12-14; 8:45 am]

BILLING CODE 3510-DS-P